DEPARTMENT OF THE INTERIOR

Fish and Wildlife Service

Draft Revised Recovery Plan for the Nēnē or Hawaiian Goose (Branta sandvicensis)

AGENCY: Fish and Wildlife Service, Interior.

ACTION: Notice of document availability for review and comment.

SUMMARY: The U.S. Fish and Wildlife Service (we) announces the availability of the Draft Revised Recovery Plan for the Nēnē or Hawaiian Goose (Branta sandvicensis) for public review and comment.

DATES: Comments on the draft revised recovery plan must be received on or before November 23, 2004.

ADDRESSES: Hard copies of the draft revised recovery plan will be available for inspection, by appointment, during normal business hours at the following location: U.S. Fish and Wildlife Service, Pacific Islands Fish and Wildlife Office, 300 Ala Moana Boulevard, Room 3-122, Box 50088, Honolulu, Hawaii 96850 (telephone: 808-792-9400; facsimile: 808-792-9580). Requests for copies of the draft revised recovery plan and written comments and materials regarding this plan should be addressed to the Field Supervisor at the above Honolulu address. This plan is currently available on the World Wide Web at http://endangered.fws.gov/recovery/index.html#plans.

FOR FURTHER INFORMATION CONTACT: Dr. Ann Marshall, Fish and Wildlife Biologist, or Dr. Eric VanderWerf, Fish and Wildlife Biologist, at the above address and telephone number.

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of a recovery plan for a listed species unless such a plan would not promote the conservation of the species. Section 4(f) of the Act requires that public notice and an opportunity for public review and comment be provided during recovery plan development. We will consider all information presented during the public comment period on each new or revised recovery plan. Substantive technical comments may result in changes to a recovery plan. Substantive comments regarding recovery plan implementation may not necessarily result in changes to a recovery plan, but will be forwarded to appropriate Federal or other entities so that they can take these comments into account during the course of implementing recovery actions. Individual responses to comments will not be provided.

The nēnē is endemic to the Hawaiian Islands and is listed as endangered by the Federal government and by the State of Hawaii. Currently, there are wild populations on the islands of Hawaii, Maui, and Kauai comprised of approximately 350, 250, and 620 individuals, respectively. In addition, 11 captive-bred nēnē were released on the island of Molokai in December 2001 and an additional 13 nēnē were released on Molokai in 2002 as part of a Safe Harbor Agreement.

Nēnē are currently found at elevations ranging from sea level to almost 2,500 meters (8,000 feet) in a variety of habitats including nonnative grasslands (such as golf courses, pastures, and rural areas); sparsely vegetated high elevation lava flows; cinder deserts; native alpine grasslands and shrublands; open native and non-native alpine shrubland-woodland community interfaces; mid-elevation native and non-native shrubland; and early successional cinderfall. This distribution has been determined largely by the locations of release sites of captive-bred nēnē. Limiting factors affecting nēnē recovery include predation by introduced mammals, insufficient nutritional resources for both breeding females and goslings, limited availability of suitable habitat, human-caused disturbance and mortality, behavioral problems associated with small populations sizes and captive-bred birds, genetic homogeneity and expression of deleterious recessive genes, and possibly avian disease.

Recovery objectives for the nēnē are to restore and maintain self-sustaining populations on the islands of Hawaii, Maui Nui, and Kauai. Additionally, sufficient suitable habitat must be identified, protected, and managed in perpetuity on each of these islands such that the species no longer requires protection under the Endangered Species Act.

The draft revised recovery plan specifies that nēnē can be considered for downlisting to threatened status when the following criteria have been reached and maintained for a period of 15 years: (1) Self-sustaining populations exist on Hawaii, Maui Nui (Maui, Molokai, Lanai, Kahoolawe), and Kauai; (2) sufficient suitable habitat for nesting, summer flocking, and migration is identified, protected, and managed in perpetuity to sustain the target population levels on each island; and (3) population size shows a stable or increasing trend after attaining the specified number of populations and individuals per island. Self-sustaining is defined in this case as maintaining (or increasing) population levels without additional releases of captive-bred nēnē. However, habitat manipulation, such as pasture management or predator control, may be necessary for populations to remain stable.

The draft revised recovery plan further specifies that nēnē can be considered for delisting when population levels on Hawaii, Maui Nui, and Kauai have each shown a stable or increasing trend (from downlisting levels) for an additional minimum of 15 years.

Public Comments Solicited

We will accept written comments and information during this comment period. If you wish to comment, you may submit your comments and materials concerning this draft revised recovery plan by any of these methods:

1. You may submit written comments and information by mail, facsimile, or in person to: Field Supervisor, U.S. Fish and Wildlife Service, Pacific Islands Fish and Wildlife Office, 300 Ala Moana Boulevard, Room 3-122, Box 50088, Honolulu, Hawaii 96850 (facsimile: 808-792-9580).

2. You may send comments by electronic mail (e-mail) to: nene_rp@r1.fws.gov. If you submit comments by e-mail, please avoid the use of special characters and any form of encryption. Please also include your name and return address in your e-mail message.

Comments and materials received, as well as supporting documentation used in preparation of the draft revised recovery plan, will be available for inspection, by appointment, during normal business hours at the address under (1) above.

Authority: The authority for this action is section 4(f) of the Endangered Species Act, 16 U.S.C. 1533(f).

Dated: July 20, 2004.
David J. Wesley,
Acting Regional Director, Region 1, U.S. Fish and Wildlife Service.

[FR Doc. 04-21172 Filed 9-23-04; 8:45 am]

BILLING CODE 4310-55-P